DEPARTMENT OF STATE

Specially Designated Global Terrorist Designation of Antifa Ost, Informal Anarchist Federation/International Revolutionary Front, Armed Proletarian Justice, and Revolutionary Class Self-Defense

Acting under the authority of and in accordance with section 1(a)(ii)(A) of Executive Order 13224, as amended (“E.O. 13224” or “Order”), I hereby determine that the persons known as Antifa Ost (also known as Antifa-Ost; Antifa-East; Hammerbande; Hammer Gang), Informal Anarchist Federation/International Revolutionary Front (also known as Federazione Anarchica Informale/Fronte Rivoluzionario Internazionale; Informal Anarchist Federation; FAI/FRI; FAI/IRF; July 20 Brigade; July Brigade/International Revolutionary Front; Cooperativa Artigiana Fuoco e Affini; FAI/Craft Cooperative Fire and Similar/International Revolutionary Front; Sorelle in Armi, Nucleo Mauricio Morales; FAI/Sisters in Arms Mauricio Morales Nucleus/International Revolutionary Front; FAI/Revolutionary Cell Lambros Fountas; FAI/Armed Cells for International Solidarity; Cells against Capital the Prison its Jailers and its Cells (CCCCC); FAI/Cells Against Capita Prison and its Jailers and its Cells; FAI/Metropolitan Cells; FAI/Revolutionary Nucleus Horst Fantazzini; FAI/Animal Revolt; FAI/Terrible Anonymous Revolt; FAI/International Solidarity; FAI/Narodnaja Vojla; Santiago Maldonado Cell; Santiago Maldonado Cell FAI-FRI; Haris Hatzimihelakis/International Nero (HHIN); Brigata Augusto Masetti Federazione Anarchica Informale—Fronte Rivoluzionario Internazionale; Augusto Masetti Informal Anarchist Brigade—

Struggle) are foreign persons who have committed or have attempted to commit, pose a significant risk of committing, or have participated in training to commit acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any persons subject to this determination who might have a constitutional presence in the United States, because to do so would render ineffectual the measures authorized in the Order.

This determination shall be published in the Federal Register.

Dated: November 10, 2025.
Marco Rubio,
Secretary of State.

[FR Doc. 2025-20666 Filed 11-19-25; 3:30 pm]

BILLING CODE 4710-AD-P